DEPARTMENT OF HEALTH AND HUMAN SERVICES

Centers for Disease Control and Prevention

[30DAY-19-03]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project: Evaluation of the ACT (Adults and Children Together) Against Violence Community Training Program—New—National Center for Injury Prevention and Control (NCIPC), Centers for Disease Control and Prevention (CDC). The goal of the ACT Against Violence Community Training Program is to make early violence prevention a central and ongoing part of a community's violence prevention efforts. The program involves a training curriculum developed by child development and violence prevention experts. The curriculum is designed to help communities: (1) Disseminate information and skills on violence prevention to adults who raise, care for, and teach young children; (2) identify and select early violence prevention programs, materials, and resources; (3) work in collaborative efforts established among community-based organizations; and (4) develop early childhood violence prevention action plans.

The purpose of the evaluation is to assess pilot implementations of the ACT Community Training Program in three communities: Monterey, CA; Randolph, NJ; and Kansas City, MO. The objectives of the evaluation are to (1) assess whether the Community Training Program is being successfully disseminated and implemented; (2) examine factors that affect successful dissemination, adoption, and implementation of the training program; (3) compare findings across the three sites; and (4) assess the involvement of the public health sector in each of the three sites.

Data collected for the evaluation will provide much-needed information on the dissemination and implementation of one of the successful strategies summarized in the Best Practices of Youth Violence Prevention. The results of the evaluation will assist the Division of Violence Prevention and the National Center for Injury Prevention and Control in carrying out CDC's mission of protecting the health of the United States public by providing leadership in preventing and controlling injuries through research, surveillance, implementation of programs, and communication. The evaluation will include semi-structured interviews with local and national program stakeholders (forms 1 and 2), focus groups with a subset of ACT trainees (“facilitators”) during a site visit (form 3), and a half-hour telephone survey with the universe of ACT trainees at 6 months with e-mail follow-ups at 2 months and 12 months (form 4). In addition, we will follow-up with a small subset of “adult community members” reached by ACT trainees with a half-hour telephone survey (form 5). Presented below is the estimated respondent burden for the telephone surveys, semi-structured interviews, and focus groups, respectively. There are no costs to respondents.

Form and type of respondent | Number of respondents | Number of responses/respondent | Average burden/response (in hours) | Total burden (in hours)
Local-level program stakeholders—interview (form 1) | 10 | 1 | 1 | 10
Facilities—screening (as part of consent procedures for both survey and focus groups) | 75 | 1 | 1/60 | 1.25
Facilitators—Survey (form 2) | 60 | 1 | 30/60 | 30
Facilitators—focus groups (form 3) | 60 | 1 | 90/60 | 90
Adult Community members—screening (as part of consent procedure for survey) | 250 | 1 | 1/60 | 4.17
Adult community members—survey (form 4) | 200 | 1 | 15/60 | 50
Total |  |  |  | 185.42

Dated: January 10, 2003.
Thomas Bartenfeld,
Acting Associate Director for Policy, Planning and Evaluation, Centers for Disease Control and Prevention.

[FR Doc. 03-1178 Filed 1-17-03; 8:45 am]

BILLING CODE 4163-18-P